DEPARTMENT OF TRANSPORTATION

Federal Aviation Administration

Twelfth Meeting: Joint RTCA Special Committee 213: EUROCAE WG-79: Enhanced Flight Vision Systems/Synthetic Vision Systems (EFVS/SVS)

AGENCY: Federal Aviation Administration, Department of Transportation.

ACTION: Notice of Joint RTCA Special Committee 213: EUROCAE WG-79: Enhanced Flight Vision Systems/Synthetic Vision Systems (EFVS/SVS).

SUMMARY: The FAA is issuing this notice to advise the public of a meeting of Joint RTCA Special Committee 213: EUROCAE WG-79: Enhanced Flight Vision Systems/Synthetic Vision Systems (EFVS/SVS).

DATES: The meeting will be held January 11-13, 2011 from 8:30 a.m.-5 p.m. (0830-1700).

ADDRESSES: The meeting will be held at the Honeywell Deer Valley Facility, 2111 N. 19th Ave., Phoenix, AZ 85027. Logistics: If attending, guests must provide name, company affiliation and citizenship to gail.dunda@honeywell.com and thea.feyereisen@honeywell.com prior to January 3, 2011. Please read the attached SC-213 Jan 2011 Phoenix Meeting attachment. Objectives are Plenary approval DO-315B (MASPS for SVS approach) and to continue discussions on DO-315C performance objectives.

FOR FURTHER INFORMATION CONTACT: (1) RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Joint RTCA Special Committee 213: EUROCAE WG-79: Enhanced Flight Vision Systems/Synthetic Vision Systems (EFVS/SVS) meeting.

The agenda will include:

Tuesday, January 11

• Morning:

• Plenary discussion (sign-in at 0830)

• Introductions and administrative items

• Review and approve minutes from last full plenary meeting

• Afternoon:

• Work Group 1 (SVS) Discussion: Review DO-315 draft and comments list

• Work Group 2 (EFVS) Discussion: Begin discussion of DO-315C performance objectives for landing in reported visibilities < 1,000 ft RVR.

Wednesday, January 12

• Plenary Discussion of DO-315B draft and comments list (830-1700, including breaks and lunch).

Thursday, January 13

• Plenary discussion (0830-1500, including breaks and lunch)

• Approve DO-315B draft.

• Administrative items (meeting schedule)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on November 15, 2010.
Robert L. Bostiga,
RTCA Advisory Committee.

[FR Doc. 2010-29296 Filed 11-19-10; 8:45 am]

BILLING CODE 4910-13-P